ENVIRONMENTAL PROTECTION AGENCY

[FRL-9212-5]

Science Advisory Board Staff Office; Notification of Two Public Teleconferences of the Science Advisory Board Ecological Processes and Effects Committee Augmented for Ballast Water

AGENCY: Environmental Protection Agency (EPA).

ACTION: Notice.

SUMMARY: The EPA Science Advisory Board (SAB) Staff Office announces two public teleconferences of the Science Advisory Board Ecological Processes and Effects Committee, augmented, to discuss its advice on the effectiveness of shipboard ballast water treatment processes and ways to improve future assessments of ballast water treatment systems to minimize the impacts of invasive species in vessel ballast water discharge.

DATES: The teleconference dates are October 26, 2010, from 2 p.m. to 6 p.m. (Eastern Time) and November 4, 2010, from 11 a.m. to 2 p.m. (Eastern Time).

ADDRESSES: The teleconferences will be conducted by telephone only.

FOR FURTHER INFORMATION CONTACT: Any member of the public wishing to obtain general information concerning this public teleconference should contact Ms. Iris Goodman, Designated Federal Officer (DFO), EPA Science Advisory Board (1400F), 1200 Pennsylvania Ave., NW., Washington, DC 20460; via telephone/voice mail: (202) 564-2164; fax: (202) 565-2098; or e-mail at goodman.iris@epa.gov. General information concerning the EPA Science Advisory Board can be found on the SAB Web site at http://www.epa.gov/sab.

SUPPLEMENTARY INFORMATION: The SAB was established by 42 U.S.C. 4365 to provide independent scientific and technical advice to the Administrator on the technical basis for Agency positions and regulations. The SAB is a Federal advisory committee chartered under the Federal Advisory Committee Act (FACA), as amended, 5 U.S.C., App 2. The SAB will comply with the provisions of FACA and all appropriate SAB Staff Office procedural policies. Pursuant to the Federal Advisory Committee Act, Public Law 92-463, notice is hereby given that the augmented SAB Ecological Processes and Effects Committee will hold two public teleconferences to discuss their preliminary advice.

Background: The augmented SAB Ecological Processes and Effects Committee held a face-to-face meeting on July 29 and 30, 2010 to receive EPA briefings and to initiate its review of EPA's Office of Water's white paper that summarized performance data for selected existing ballast water technologies (75 FR 37793-3779400, June 30, 2010). Specifically, the Committee has been asked to evaluate: (1) The performance of shipboard ballast water treatment processes, based on available effluent testing data; (2) the potential for future improved performance of shipboard ballast water treatment systems; and (3) how to develop reliable information to use in future assessments of ballast water treatment technologies and systems. The purpose of these teleconferences is to discuss the preliminary advice of the Committee's subgroups addressing these issues. Background information on this advisory activity is available on the SAB Web site at http://yosemite.epa.gov/sab/sabproduct.nsf/fedrgstr_activites/BW%20discharge?OpenDocument.

Availability of Meeting Materials: The agendas and other materials in support of the teleconferences will be placed on the SAB Web site at http://www.epa.gov/sab in advance of each teleconference.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a federal advisory committee to consider as it develops advice for EPA. Interested members of the public may submit relevant written or oral information for the SAB to consider on the topics included in this advisory activity. Oral Statements: In general, individuals or groups requesting an oral presentation at a public teleconference will be limited to three minutes per speaker, with no more than a total of one-half hour for all speakers. Each person making an oral statement should consider providing written comments so that the points presented orally can be expanded upon in writing. Interested individuals should contact Ms. Goodman, DFO, in writing (preferably via e-mail) at the contact information noted above by October 20, 2010, to be placed on a list of public speakers for the for the October 26, 2010 teleconference. Written Statements: Written statements for the October 26, 2010 teleconference should be supplied to the DFO via email at the contact information noted above, by October 20, 2010, so that the information may be made available to the SAB Committee members for their consideration and placed on the SAB Web site for public information. Written statements should be supplied to the DFO in the following formats: one hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Ms. Iris Goodman at (202) 564-2164 or goodman.iris@epa.gov. To request accommodation of a disability, please contact Ms. Goodman, preferably at least 10 days prior to the meeting, to give EPA as much time as possible to process your request.

Dated: September 30, 2010.
Anthony F. Maciorowski,
Deputy Director, EPA Science Advisory Board Staff Office.

[FR Doc. 2010-25452 Filed 10-7-10; 8:45 am]

BILLING CODE 6560-50-P